DEPARTMENT OF THE INTERIOR

Bureau of Land Management

[LLOR-936000-L14300000-ET0000; HAG-09-0126; WAOR-42920]

Public Land Order No. 7739; Extension of Public Land Order No. 6776; Washington

AGENCY: Bureau of Land Management, Interior.

ACTION: Public Land Order.

SUMMARY: This order extends the withdrawal created by Public Land Order No. 6776 for an additional 20-year period. This extension is necessary to continue protection of the North Cascades Scenic Highway Zone in Chelan, Okanogan, Skagit, and Whatcom Counties, Washington which would otherwise expire on April 17, 2010.

DATES: Effective Date: April 18, 2010.

FOR FURTHER INFORMATION CONTACT: Gregory B. Graham, U.S. Forest Service Okanogan-Wenatchee National Forest, 215 Melody Lane, Wenatchee, Washington 98801, (509) 664-9262, or Charles R. Roy, Bureau of Land Management Oregon/Washington State Office, P.O. Box 2965, Portland, Oregon 97208, (503) 808-6189.

SUPPLEMENTARY INFORMATION: The purpose for which the withdrawal was first made requires this extension to continue protection of the unique natural, scenic, and recreational values and the investment of Federal funds along the North Cascades Scenic Highway Zone within the Mt. Baker, Okanogan, and Wenatchee National Forest. The United States Forest Service will continue to manage the lands to protect these values.

Order

By virtue of the authority vested in the Secretary of the Interior by Section 204 of the Federal Land Policy and Management Act of 1976, 43 U.S.C. 1714, it is ordered as follows:

1. Public Land Order No. 6776 (55 FR 14422, (1990)) that withdrew 8,950 acres of National Forest System lands from location or entry under the United States mining laws (30 U.S.C. ch. 2) on behalf of the Forest Service to protect the North Cascades Scenic Highway Zone, is hereby extended for an additional 20-year period.

2. Public Land Order No. 6776 will expire on April 17, 2030, unless, as a result of a review conducted prior to the expiration date, pursuant to Section 204(f) of the Federal Land Policy Management Act of 1976, 43 U.S.C. 1714(f), the Secretary of the Interior determines that the withdrawal shall be extended.

Dated: April 9, 2010.
Wilma A. Lewis,
Assistant Secretary—Land and Minerals Management.

[FR Doc. 2010-8778 Filed 4-15-10; 8:45 am]

BILLING CODE 3410-11-P